DEPARTMENT OF HOUSING AND URBAN DEVELOPMENT

[Docket No. FR-4737-N-06]

Notice of Proposed Information Collection for Public Comment: Infrastructure Study

AGENCY: Office of Policy Development and Research, HUD.

ACTION: Notice.

SUMMARY: The proposed information collection requirement concerning a project to obtain information on the infrastructure needs of tribally designated housing entities and tribal housing agencies will be submitted to the Office of Management and Budget (OMB) for review, as required by the Paperwork Reduction Act. The Department is soliciting public comments on the subject proposal.

DATES: Comments Due Date: October 8, 2002.

ADDRESSES: Interested persons are invited to submit comments regarding this proposal. Comments should refer to the proposal by name and/or OMB number and should be sent to: Reports Liaison Officer, Office of Policy Development and Research, Department of Housing and Urban Development, 451 7th Street, SE, 8228, Washington, DC 20410.

FOR FURTHER INFORMATION CONTACT: Ndeye Jackson, telephone number (202) 708-5537 X5737; Ndeye J. Jackson@HUD.gov. Copies of the proposed forms and other available documents may be obtained from Ndeye Jackson.

SUPPLEMENTARY INFORMATION: The Department will submit the proposed information collection to OMB for review, as required by the Paperwork Reduction Act of 1995 (44 U.S.C. Chapter 35, as amended).

This Notice is soliciting comments from members of the public and affected agencies concerning the proposed collection information to: (1) Evaluate whether the proposed collection of information is necessary for the proper performance of the functions of the agency, including whether the information will have practical utility; (2) evaluate the accuracy of the agency's estimate of the burden of the proposed collection of information (3) enhance the quality, utility, and clarity of information to be collected; and (4) minimize the burden of the collection of information on those who are to respond; including through use of appropriate automated collection techniques or other forms of information technology, e.g., permitting electronic submission of responses.

This Notice also lists the following information:

Title of Proposal: Survey of Infrastructure Needs of tribes and tribally designated housing entities, or equivalent Indian housing program.

Description of the need for the information and proposed use: The primary purpose of the proposed data collection is to develop a questionnaire for HUD that can be used with a national sample of tribes and tribally designated housing entities, or an equivalent Indian housing agency, to determine the current status, trends and barriers to infrastructure development in tribal areas. The questionnaire will be circulated via mail, e-mail or attached to the National American Indian Housing Council's Web site address: “http://NAIHC.Indian.com”

Members of affected public: Tribes and tribally designated housing entities, or equivalent Indian housing agencies.

Estimation of the total numbers of hours needed to prepare the information collection including number of respondents, frequency of response, and hours of response:

Task | Number of respondents | Frequency of respondents | Hours per response | Burden hours
Questionnaire | 1,000 | once | 1.00 | 1,000

Total Estimated Annual Burden Hours: 1,000.

Status of the proposed information collection: Pending OMB approval.

Authority: The Paperwork Reduction Act of 1995, 44 U.S.C. Chapter 35, as amended.

Dated: August 2, 2002.
Harold L. Bunce,
Deputy Assistant Secretary for Economic Affairs.

[FR Doc. 02-20241 Filed 8-8-02; 8:45 am]

BILLING CODE 4210-62-M